DEPARTMENT OF THE INTERIOR

Bureau of Indian Affairs

Privacy Act of 1974, as Amended; Establishment of a New System of Records

AGENCY: Bureau of Indian Affairs, Interior.

ACTION: Notice of addition of a new system of records.

SUMMARY: The Department of the Interior (DOI), Bureau of Indian Affairs (BIA) is issuing public notice, pursuant to the Privacy Act of 1974 (5 U.S.C. 552a), of its intent to add a new Privacy Act system of records to its inventory of records systems subject to the Privacy Act of 1974 (5 U.S.C. 552a). This action is necessary to meet the requirements of the Privacy Act to publish in the Federal Register notice of the existence and character of records systems maintained by the agency (5 U.S.C. 552a(e)(4)). The new Privacy Act system of records is entitled “Interior BIA-28: Alaska Title Plant Database System (AKTitle)”.

DATES: Comments must be received by August 25, 2008.

ADDRESSES: Any persons interested in commenting on this proposed amendment may do so by submitting comments in writing to the Privacy Act Officer, Bureau of Indian Affairs, 625 Herndon Parkway, Herndon, VA 20170, or by e-mail to Joan.Tyler@bia.gov.

FOR FURTHER INFORMATION CONTACT: Vicki Forrest, Deputy Bureau Director, Office of Trust Services, 1849 C Street, NW., Washington. DC 20240, or by e-mail to vicki.forrest@bia.gov.

SUPPLEMENTARY INFORMATION: This notice is published pursuant to the Privacy Act of 1974 (5 U.S.C. 552a(e)(4)) and is in exercise of authority delegated by the Secretary of the Interior to the Assistant Secretary—Indian Affairs in 209 DM 8.1. This notice establishes the Privacy Act System of Records entitled Interior, BIA-28, “AKTitle.”

The purpose of this system is to maintain a single database of records related to individual Indians enrolled in Alaska Native corporations and their heirs. The existence of one consolidated database allows Alaska Title Plant and Probate personnel to quickly and accurately locate records in order to verify real estate holdings.

Dated: July 9, 2008.
George T. Skibine,
Acting Deputy Assistant Secretary, Policy and Economic Development.

SYSTEM NAME:

AKTitle—Interior, BIA-28.

SYSTEM LOCATION:

Alaska Title Services Center, 3601 C Street, Suite 1100, Anchorage, AK 99053.

CATEGORIES OF INDIVIDUALS COVERED BY THE SYSTEM:

Individual Indians enrolled in Alaska Native Corporations and heirs.

CATEGORIES OF RECORDS IN THE SYSTEM:

• Enrollee information, including name, date of birth, date of death, social security number, Alaska Native Enrollment Number, names of mother and father, Native Corporation to which individual is enrolled, and title ownership; and

• Information on individual real estate holdings, including lot, block, section, township, range, and tract number.

AUTHORITY FOR MAINTENANCE OF THE SYSTEM:

This system of records is maintained under the authority of 36 Stat. 855, 856, 38 Stat. 588, 42 Stat. 1185, 44 U.S.C. 3101 et seq.

ROUTINE USES OF RECORDS MAINTAINED IN THE SYSTEM, INCLUDING CATEGORIES OF USERS AND THE PURPOSES OF SUCH USES:

AKTitle is used to manage records of real estate holdings of individual Indians enrolled in Alaska Native corporations. AKTitle shares information with “Alaska National Interest Lands Conservation Act” (ANILCA) and Native Allotment Distributions for Alaska Realty and Compact/Contract Offices.

Disclosures outside the Department of the Interior may be made:

(1) To State Offices (primarily Welfare, etc.); the Social Security Office; Indian Health Services; Department of Education; and Alaskan Natives.

(2)(a) To any of the following entities or individuals, when the circumstances set forth in paragraph (b) are met:

(i) The Department of Justice (DOJ);

(ii) A court, adjudicative or other administrative body;

(iii) A party in litigation before a court or adjudicative or other administrative body; or

(iv) Any DOI employee acting in his or her individual capacity if DOI or DOJ has agreed to represent that employee or pay for private representation of the employee;

(b) When:

(i) One of the following is a party to the proceeding or has an interest in the proceeding:

(A) DOI or any component of DOI;

(B) Any other Federal agency appearing before the Office of Hearings and Appeals;

(C) Any DOI employee acting in his or her official capacity;

(D) Any DOI employee acting in his or her individual capacity if DOI or DOJ has agreed to represent that employee or pay for private representation of the employee;

(E) The United States, when DOJ determines that DOI is likely to be affected by the proceeding; and

(ii) DOI deems the disclosure to be:

(A) Relevant and necessary to the proceeding; and

(B) Compatible with the purposes for which the records were compiled.

(3) To a congressional office in response to a written inquiry that an individual covered by the system, or the heir of such individual if covered individual is deceased, has made to the office.

(4) To any criminal, civil, or regulatory law enforcement authority (whether Federal, State, territorial, local, tribal, or foreign) when a record, either alone or in conjunction with other information, indicates a violation or potential violation of law—criminal, civil, or regulatory in nature, and the disclosure is compatible with the purpose for which the records were compiled.

(5) To an official of another Federal agency to provide information needed in the performance of official duties related to reconciling or reconstructing data files or to enable that agency to respond to an inquiry by the individual to whom the record pertains.

(6) To Federal, State, territorial, local, Alaskan Native, or foreign agencies that have requested information relevant or necessary to the hiring, firing, or retention of an employee or contractor, or the issuance of a security clearance, license, contract, grant, or other benefit, when the disclosure is compatible with the purpose for which the records were compiled.

(7) To representatives of the National Archives and Records Administration to conduct records management inspections under the authority of 44 U.S.C. 2904 and 2906.

(8) To State and local governments and Alaskan Native organizations to provide information needed in response to court order and/or discovery purposes related to litigation, when the disclosure is compatible with the purpose for which the records were compiled.

(9) To an expert, consultant, or contractor (including employees of the contractor) of DOI that performs services requiring access to these records on DOI's behalf to carry out the purposes of the system.

(10) The appropriate agencies, entities, and persons when:

(a) It is suspected or confirmed that the security or confidentiality of information in the system of records has been compromised; and

(b) The Department has determined that as a result of the suspected or confirmed compromise, there is a risk of harm to economic or property interest, identity theft or fraud, or harm to the security or integrity of this system or other systems or programs (whether maintained by the Department or another agency or entity) that rely upon the compromised information; and

(c) The disclosure is made of such agencies, entities, and persons who are reasonably necessary to assist in connection with the Department's efforts to respond to the suspected or confirmed compromise and prevent, minimize, or remedy such harm.

(11) To the Office of Management and Budget during the coordination and clearance process in connection with legislative affairs as mandated by OMB Circular A-19.

(12) To the Department of the Treasury to recover debts owed to the United States.

(13) To the news media when the disclosure is compatible with the purpose for which the records were compiled.

(14) To individual Indians and their heirs to verify their real estate holdings.

DISCLOSURES TO CONSUMER REPORTING AGENCIES:

Pursuant to 5 U.S.C. 552a(b)(12), records can be disclosed to consumer reporting agencies as they are defined by the Fair Credit Reporting Act (15 U.S.C. 1681a(f)) or the Federal Claims Collection Act of 1966 (31 U.S.C. 3701(a)(3)).

POLICIES AND PRACTICES FOR STORING, RETRIEVING, ACCESSING, RETAINING, AND DISPOSING OF RECORDS IN THE SYSTEM:

STORAGE:

Records are stored in both paper and electronic form.

RETRIEVABILITY:

Manual records are indexed by name. Electronic records can be retrieved by name, social security number, date of birth, ID number, names of parents, U.S. Survey Numbers, or land descriptions such as Township or Range.

SAFEGUARDS:

AKTitle is maintained with controls meeting safeguard requirements identified in Departmental Privacy Act Regulations (43 CFR 2.51) for manual and automated records. Access to records is limited to authorized personnel whose official duties require such access; agency officials have access only to records pertaining to their agencies.

(1) Physical Security: Paper or electronic format records are maintained in locked file cabinets and/or in secured rooms.

(2) Technical Security: Electronic records are maintained in conformity with Office of Management and Budget and Departmental guidelines reflecting the implementation of the Federal Information Security Management Act. Electronic data are protected through user identification, passwords, database permissions, and software controls. These security measures establish different degrees of access for different types of users. An audit trail is maintained and reviewed periodically to identify unauthorized access. A Privacy Impact Assessment was completed for AKTitle and is updated at least annually to ensure that Privacy Act requirements and personally identifiable information safeguard requirements are met.

(3) Administrative Security: All DOI and contractor employees with access to AKTitle are required to complete Privacy Act, Records Management Act, and Security Training.

RETENTION AND DISPOSAL:

Records relating to individuals covered by this system are retained in accordance with the 16 Bureau of Indian Affairs Manual (BIAM), as approved by the National Archives and Records Administration, and are scheduled for permanent retention.

SYSTEM MANAGER AND ADDRESS:

Deputy Bureau Director, Office of Trust Services, 1849 C Street, NW., Washington, DC 20240.

NOTIFICATION PROCEDURES:

Inquiries regarding the existence of records should be addressed to the System Manager. The request must be in writing, signed by the requester, and meet the requirements of 43 CFR 2.60.

RECORD ACCESS PROCEDURES:

A request for access should be addressed to the System Manager. The request must be in writing, signed by the requester, and meet the requirements of 43 CFR 2.63.

CONTESTING RECORD PROCEDURES:

A petition for amendment should be addressed to the System Manager. The request must be in writing, signed by the requester, and meet the content requirements of 43 CFR 2.71.

RECORD SOURCE CATEGORIES:

Source information is received from Probate files, Native Allotment files, the Bureau of Vital Statistics, the Regional Solicitor, and decisions from the Office of Hearings and Appeals. Information was collected from the public for the Vietnam Veterans Allotment Act.

EXEMPTIONS CLAIMED FOR THE SYSTEM:

None.

[FR Doc. E8-16102 Filed 7-14-08; 8:45 am]

BILLING CODE 4312-RY-P